DEPARTMENT OF HEALTH AND HUMAN SERVICES

Substance Abuse and Mental Health Services Administration

Meeting of the Substance Abuse and Mental Health Services Administration, Center for Mental Health Services National Advisory Council

AGENCY: Substance Abuse and Mental Health Services Administration, HHS.

ACTION: Notice.

SUMMARY: Pursuant to Public Law 92-463, notice is hereby given of the meeting on April 25, 2023, of the Substance Abuse and Mental Health Services Administration (SAMHSA), Center for Mental Health Services National Advisory Council (CMHS NAC).

The meeting is open to the public and will include consideration of the meeting minutes from the August 18, 2022, SAMHSA, CMHS NAC meeting; updates from the CMHS Director; a discussion from SAMHSA's Assistant Secretary; a discussion on Certified Community Behavioral Health Clinic; a discussion on School Based Mental Health Services; a discussion on Mental Health Block Grant; a discussion on Black Youth Suicide Prevention Activities; and a discussion on CMHS/SAMHSA Response to Disasters.

The meeting will be held at SAMHSA, 5600 Fishers Lane, 5N54, Rockville, MD 20857. Attendance by the public will be limited to space available and will be limited to the open sessions of the meeting. Interested persons may present data, information, or views, orally or in writing, on issues pending before the Council. Presentations from the public will be scheduled at the conclusion of the meeting. Individuals interested in making public comment must notify the contact person, Pamela Foote, CMHS NAC Designated Federal Officer (DFO) on or before April 14, 2023. Up to three minutes will be allotted for each public comment as time permits. Written comments received in advance of the meeting will be considered for inclusion in the official record.

The open meeting session may also be accessed virtually. Please register on-line at https://snacregister.samhsa.gov, to attend on either on site or virtually, submit written or brief oral comments, or request special accommodations for persons with disabilities. To communicate with the CMHS NAC DFO please see the contact information below. Meeting information and a roster of Council members may be obtained by accessing the SAMHSA Committee website at https://www.samhsa.gov/about-us/advisory-councils/cmhs-national-advisory-council or by contacting the DFO.

Council Name: SAMHSA's Center for Mental Health Services National Advisory Council.

Date/Time/Type: April 25, 2023, 9 a.m. to 4:30 p.m. EDT, Open.

Place: SAMHSA, 5600 Fishers Lane, Rockville, Maryland 20857.

Contact: Pamela Foote, Designated Federal Officer, CMHS National Advisory Council, 5600 Fishers Lane, Rockville, Maryland 20857 (mail), Telephone: (240) 276-1279, Email: pamela.foote@samhsa.hhs.gov.

Dated: March 13, 2023.
Carlos Castillo,
Committee Management Officer, SAMHSA.

[FR Doc. 2023-05564 Filed 3-17-23; 8:45 am]

BILLING CODE 4162-20-P